DEPARTMENT OF COMMERCE

International Trade Administration

[A-307-803, C-307-804]

Antidumping and Countervailing Duties; Gray Portland Cement and Cement Clinker From Venezuela

AGENCY: Import Administration, International Trade Administration, Department of Commerce.

ACTION: Notice of final results of five-year (“sunset”) review, termination of the suspended antidumping duty and countervailing duty investigations on gray portland cement and cement clinker from Venezuela.

SUMMARY: On February 27, 2000, and March 3, 2000, the Department of Commerce (“the Department”), pursuant to sections 751(c) and 752 of the Tariff Act of 1930, as amended (“the Act”), determined that termination of the suspended antidumping duty and countervailing duty investigations on gray portland cement and cement clinker from Venezuela would be likely to lead to continuation or recurrence of dumping. See Gray Portland Cement and Cement Clinker From Venezuela; Final Results of Sunset Review of Suspended Antidumping Duty Investigation, 65 FR 41050 (July 3, 2000), and Gray Portland Cement and Cement Clinker From Venezuela, Final Results of Expedited Sunset Review of Suspended Countervailing Duty Investigation, 65 FR 11554 (March 3, 2000).

On November 1, 2000, the International Trade Commission (“the Commission”), pursuant to section 751(c) of the Act, determined that termination of the suspended antidumping duty and countervailing duty investigations on gray portland cement and cement clinker from Venezuela would not be likely to lead to continuation or recurrence of material injury to an industry in the United States within a reasonably foreseeable time. See Gray Portland Cement and Cement Clinker from Japan, Mexico, and Venezuela, 65 FR 65327 (November 1, 2000). Therefore, pursuant to 19 CFR 351.222(i)(1), the Department is publishing this notice of termination of the suspended antidumping duty and countervailing duty investigations on gray portland cement and cement clinker from Venezuela.

EFFECTIVE DATE: January 1, 2000.

FOR FURTHER INFORMATION CONTACT: Martha V. Douthit or James P. Maeder, Office of Policy, Import Administration, International Trade Administration, U.S. Department of Commerce, 14th Street and Constitution Avenue, NW, Washington, DC 20230; telephone: (202) 482-5050 or (202) 482-3330, respectively.

SUPPLEMENTARY INFORMATION:

Background

On August 2, 1999, the Department initiated, and the Commission instituted, sunset reviews of the suspended antidumping duty and countervailing duty investigations on gray portland cement and cement clinker from Venezuela. See 64 FR 41915, 41958, respectively. As a result of its reviews, the Department found that termination of the suspended antidumping duty and countervailing duty investigations would likely lead to continuation or recurrence of dumping, and notified the Commission of the magnitude of the margins likely to prevail were the suspended investigations revoked.

On November 1, 2000, the Commission determined, pursuant to section 751(c) of the Act, that termination of the suspended antidumping duty and countervailing duty investigations covering cement and cement clinker from Venezuela would not be likely to lead to continuation or recurrence of material injury to an industry in the United States within a reasonably foreseeable time. See Gray Portland Cement and Cement Clinker from Japan, Mexico, and Venezuela, 65 FR 65327 (November 1, 2000), and USITC Publication 3361, Investigation Nos. 303-TA-21 (Review) and 731-TA-451, 461, and 519 (Review) (October 2000).

Scope of the Suspended Investigations

The products covered by these investigations are gray portland cement and cement clinker (“portland cement”) from Venezuela. Gray portland cement is a hydraulic cement and the primary component of concrete. Cement clinker, an intermediate material produced when manufacturing cement, has no use other than grinding into finished cement. Oil well cement is also included within the scope. Microfine cement was specifically excluded from the scope. Gray portland cement is currently classifiable under the Harmonized Tariff Schedule (“HTS”) item number 2523.29, and cement clinker is currently classifiable under HTS item number 2523.10. Gray portland cement has also been entered under item number 2523.90 as other hydraulic cements. The HTS item numbers are provided for convenience and customs purposes. The written product description remains dispositive as to the scope of the product coverage.

Determination

As a result of the determination by the Commission that termination of the suspended antidumping duty and countervailing duty investigations would not be likely to lead to continuation or recurrence of material injury to an industry in the United States, pursuant to section 751(d)(2) of the Act, the Department hereby orders the termination of the suspended antidumping duty and countervailing duty investigations on gray portland cement and cement clinker from Venezuela.

Effective Date of Termination

The termination of the suspended investigations is effective as to all entries, or withdrawals from warehouse, of the subject merchandise on or after January 1, 2000.

Dated: November 8, 2000.
Joseph A. Spetrini,
Acting Assistant Secretary for Import Administration.

[FR Doc. 00-29253 Filed 11-14-00; 8:45 am]

BILLING CODE 3510-DS-P